DEPARTMENT OF TRANSPORTATION

Federal Transit Administration

Solicitation of Proposals for the National Rural Transit Assistance Program

AGENCY: Federal Transit Administration (FTA), DOT.

ACTION: Notice of funding opportunity.

SUMMARY: The Federal Transit Administration (FTA) is soliciting proposals under the agency's Formula Grants for Rural Areas Program to select an entity to administer a National Rural Transit Assistance Program (RTAP). The National RTAP will carry out activities to design and implement training and technical assistance projects and other support services tailored to meet the specific needs of transit operators in rural areas, including Indian Country. Primary activities will include the development of information and materials for use by local operators and State administering agencies, and supporting research and technical assistance projects of national interest.

DATES: Complete proposals for funding opportunity FTA-2019-005-TPM-NRTAP must be submitted electronically through GRANTS.GOV. All applications must be received by 11:59 p.m. Eastern time on August 30, 2019.

FOR FURTHER INFORMATION CONTACT: Marianne Stock, FTA Office of Program Management, (202) 366-6508 or marianne.stock@dot.gov.

SUPPLEMENTARY INFORMATION:

Table of Contents

A. Program Description

B. Federal Award Information

C. Eligibility Information

D. Application and Submission Information

E. Application Review Information

F. Federal Award Administration

G. Federal Awarding Agency Contacts

A. Program Description

The Formula Grants for Rural Areas Program, authorizes the Secretary of Transportation to carry out a Rural Transportation Assistance Program (RTAP) in rural areas.

FTA's National RTAP is funded under the Formula Grants for Rural Areas Program to enhance the delivery of public transportation services provided by State Departments of Transportation (DOTs) and operators of rural public transportation. Since 1979, FTA has provided grants to States under the Formula Grants for Rural Areas Program and its predecessor programs to establish and maintain transit systems in communities with populations of less than 50,000 individuals. Rural transit systems and community transit drivers, dispatchers, maintenance workers, managers, and board members need special skills and knowledge to provide quality service to their diverse customers across large, rural service areas. The National RTAP was created in 1997 to carry out projects of a national scope that provide transportation assistance in these areas.

The National RTAP provides for the development of information and materials for use by local operators, State DOTs and State funded transit agencies, and supports research and technical assistance projects of national interest. The FTA carries out the objectives of the National RTAP through a cooperative agreement that establishes and provides financial assistance for these activities. FTA selected the current recipient to administer the National RTAP in 2014. Consistent with the Uniform Administrative Requirements of 2 CFR200, every 5 years the FTA competes the administration of the National RTAP.

FTA also supports assistance for local RTAP activities through funding apportionments to the States. The State RTAPs develop and implement training and technical assistance in conjunction with the State's administration of the Formula Grants for Rural Areas Formula Program. The State RTAPs and National RTAP complement each other and both are funded under the Formula Grants for Rural Areas program.

The objectives of the National RTAP are:

• Objective 1: To promote the delivery of safe, effective and efficient public transportation in rural areas.

• Objective 2: To support State and local governments in addressing the training and technical assistance needs of the rural transportation community.

• Objective 3: To conduct research, including analysis of data reported to FTA's National Transit Database, and to maintain current profiles of the characteristics of rural transit as well as the inventory of providers of rural, tribal and specialized transportation providers.

Since its inception, the National RTAP has developed and distributed training materials, provided technical assistance, generated reports, published best practices, produced scholarships, conducted research, and offered peer assistance with the goal of improved mobility for the millions of Americans living in rural communities. The National RTAP also has developed tools for use by rural transit providers in providing their service, and provided access to scholarship, research and training through sponsorship of and participation in conferences attended by a variety of constituents with interest in rural and tribal transit. For more information on the various programs and services provided by the National RTAP, visit the National RTAP website at: http://www.nationalrtap.org/AboutUs.aspx.

B. Federal Award Information

FTA is authorized to use two percent of funds appropriated for its Formula Grants for Rural Areas Program for research, technical assistance, training, and related support services in rural areas. Of this amount, FTA expects to award the administration of the National RTAP as a cooperative agreement. FTA will fund the cooperative agreement for up to five (5) years, subject to availability of funds, and the apportioned balance to the States to carry out State RTAP activities.

FTA intends to fund the National RTAP with $1,936,904 in Fiscal Year (FY) 2018 funds for the first year. FTA may extend funding for this center for up to five (5) years; however, subsequent funding will depend upon: (1) Future authorization and appropriations; (2) decisions and program priorities established by the Secretary of Transportation related to implementation of the National Rural Transportation Assistance program; and (3) annual performance reviews. Congress apportioned an additional $2,097,966 for National RTAP in FY 2019.

C. Eligibility Information

Eligible proposers are non-profit organizations with rural and tribal transportation experience that have the capacity to provide public transportation-related technical assistance and the ability to deliver a national technical assistance and training program. There is no local match or cost sharing requirement for this program.

D. Application and Submission Information

1. Address

Applications must be submitted electronically through GRANTS.GOV, as described above. General information for registering and submitting applications through GRANTS.GOV can be found at https://www.grants.gov/web/grants/applicants.html along with specific instructions for the forms and attachments required for submission. Mail and fax submissions will not be accepted. A complete proposal submission will consist of at least two files: (1) The SF-424 Mandatory form (downloaded from GRANTS.GOV); and (2) a narrative application document in Microsoft Word, Adobe Acrobat, or compatible file format. The narrative application should be in the format outlined in Section 2 below. Once completed, the narrative application must be placed in the attachments section of the SF-424 Mandatory form. Proposers must attach the narrative application file to their submission in GRANTS.GOV to successfully complete the proposal process. A proposal submission may contain additional supporting documentation as attachments.

2. Content and Form of Application Submission

Proposals must be submitted in a Microsoft Word, Adobe Acrobat, or compatible file format, double-spaced using Times New Roman, 12-point font. The proposal must contain the following components and adhere to the specified maximum lengths:

a. Cover sheet (1 page).

The cover sheet must include the name of the entity submitting the proposal, the principal's name, title, and contact information (e.g., address, phone, fax, and email), and the name and contact information for the key point of contact for all five activities (if different from principal).

b. Abstract (not to exceed 4 pages).

The abstract must include the following sections: background, purpose, methodology, intended outcomes, and plan for evaluation.

c. Detailed budget proposal and budget narrative (not to exceed 3 pages).

d. Project narrative (not to exceed 25 pages)

The project narrative must include the following information:

i. The methodology for addressing the goals and objectives;

ii. Objectives, activities, deliverables, milestones, timeline and intended outcomes for achieving the goals outlined in the scope for the first year;

iii. The existing and future capacity of the organization to address the issues outlined in the proposal and the organization's ability to implement goals and objectives;

iv. A detailed plan for communication, technical assistance, and outreach at the State and local levels;

v. A plan to work with stakeholders and build partnerships at the national level and;

vi. Staff qualifications, including: (1) Prior experience providing technical assistance, especially related to public transit in rural areas, (2) prior experience implementing the other tasks outlined in this solicitation, (3) staff members' knowledge of issues related to public transit in rural areas, and (4) a one-page biographical sketch for each staff member.

e. Plan for evaluation of National RTAP activities and performance measures (not to exceed 5 pages).

f. Supplemental materials, such as bios and letters of support, can be included in an appendices section that is beyond the page limits above but may not exceed 15 additional pages.

3. Unique Entity Identifier and System for Award Management (SAM)

Each applicant must: (1) Register in SAM before applying; (2) provide a valid unique SAM entity identifier in its application; and (3) continue to maintain an active SAM registration with current information, during which the applicant has an active Federal award or an application or plan under consideration by FTA. These requirements do not apply if the applicant: (1) Is excepted from the requirements under 2 CFR 25.110(b) or (c); or (2) has an exception approved by FTA under 2 CFR 25.110(d). The FTA may not make an award until the applicant has complied with all applicable unique entity identifier and SAM requirements. If an applicant has not fully complied with the requirements by the time FTA is ready to make an award, FTA may determine that the applicant is not qualified to receive an award and use that determination as a basis for making a Federal award to another applicant. SAM registration takes approximately 3-5 business days, but FTA recommends allowing ample time, up to several weeks, for completion of all steps. For additional information on obtaining a unique entity identifier, please visit www.sam.gov.

4. Submission Dates and Times

Project proposals must be submitted electronically through GRANTS.GOV and must be received by 11:59 p.m. Eastern time on August 30, 2019. GRANTS.GOV attaches a time stamp to each application at the time of submission. Proposals submitted after the deadline will only be considered under extraordinary circumstances not under the applicant's control. Mail and fax submissions will not be accepted.

Within 48 hours after submitting an electronic application, the applicant should receive two email messages from GRANTS.GOV: (1) Confirmation of successful transmission to GRANTS.GOV; and (2) confirmation of successful validation by GRANTS.GOV. If confirmation of successful validation is not received or a notice of failed validation or incomplete materials is received, the applicant must address the reason for the failed validation, as described in the email notice, and resubmit before the submission deadline. If making a resubmission for any reason, include all original attachments regardless of which attachments were updated and check the box on the supplemental form indicating this is a resubmission.

The FTA urges applicants to submit proposals at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants still may be required to take steps to keep their registration up to date before submissions can be made successfully: (1) Registration in the SAM is renewed annually; and (2) persons making submissions on behalf of the Authorized Organization Representative (AOR) must be authorized in GRANTS.GOV by the AOR to make submissions. How to Register to Apply through Grants.gov. To register and for detailed instructions, please see the “APPLICANTS” tab in Grants.gov (https://www.grants.gov/web/grants/applicants.html). To be eligible to apply for this opportunity, organizations must have a Data Universal Numbering System (DUNS) Number, active SAM registration, and an established Grants.gov account. Creating a Grants.gov account can be completed online in minutes, but DUNS and SAM registrations may take several weeks. Therefore, an organization's registration should be done in sufficient time to ensure it does not impact the entity's ability to meet required application submission deadlines. Complete organization instructions can be found on Grants.gov: https://www.grants.gov/web/grants/applicants/organization-registration.html.

E. Application Review Information

Proposals will be evaluated by an internal review team based on each applicant's response to the following criteria: (1) Methodology to Meet the Goals of the National RTAP; (2) Qualifications of Key Personnel, Experience, and Knowledge; (3) Communication, Technical Assistance, and Outreach Strategy; (4) Technical, Legal, and Financial Capacity; (5) Ability to Work with Stakeholders and Build Parternships at the National Level; and (6) Plan to Evaluate the NRTAP activities. The criteria are explained below:

1. Methodology To Meet the Goals of the National RTAP

The FTA is seeking innovative and effective approaches and strategies to accomplish the project objectives. Proposals will be evaluated based on the proposed methodology for addressing the goals and objectives of the National RTAP, as well as the capacity of the organization to address the issues outlined in the proposal. The proposal should clearly explain the objectives, activities, deliverables, milestones, timeline and intended outcomes for achieving the goals outlined in the scope for the first year, and how the organization intends to implement them.

2. Qualifications of Key Personnel, Experience, and Knowledge

The proposal should demonstrate that key personnel have the appropriate skills and experience to carry out the activities. The FTA will evaluate the qualifications and experience of the key staff detailed in the proposal for their: (1) Prior experience providing technical assistance, especially related to public transit in rural areas, (2) prior experience implementing the other tasks outlined in this solicitation, (3) knowledge of issues related to public transit in rural areas.

3. Communication, Technical Assistance, and Outreach Strategy

The proposal should demonstrate the ability to execute a technical assistance program with a national scope, as well as strategies for delivering targeted assistance to State, regional, and local stakeholders. Proposing organizations are encouraged to think innovatively about this technical assistance delivery.

The proposal also should demonstrate the ability to carry out outreach, dissemination, and information management activities. These activities will include capturing and sharing useful and best practices in rural transportation operations, as well as supporting activities related to FTA's tribal transit program. The proposal should demonstrate innovative approaches, such as the use of communication that is accessible through social media and other information technologies, to accomplish effective stakeholder strategies that both manage and plan the engagement. Rural and tribal communities have unique needs, and the proposal should reflect engagement touchpoints and the ability to meaningfully engage with these communities in other to produce successful transportation outcomes.

4. Technical, Legal, and Financial Capacity

The proposal must include an effective project management plan to administer and manage the National RTAP and must demonstrate that the applicant has the technical, legal, and financial capacity to carry out the plan. FTA will evaluate the applicant's:

a. Technical capacity to administer and manage the services proposed;

b. Total budget and staffing; and

c. Evidence of understanding of the National RTAP mission and comprehensive technical approach to delivering the National RTAP.

The proposal should indicate a strong organizational capability to address the issues and activities outlined in the proposal. In addition, the proposal should indicate experience in managing and monitoring sub-recipients and contractors, if any are included in the proposal. The recipient selected must be an eligible recipient for a cooperative agreement with FTA and able to sign the required certifications and assurances.

5. Ability To Work With Stakeholders and Build Partnerships at the National Level

The proposal must include a plan for effective and meaningful stakeholder engagement. The proposal will be evaluated based in the quality and effectiveness of the plan for engaging and supporting stakeholder engagement to drive the activities of the National RTAP.

6. Plan To Evaluate the National RTAP Activities

FTA will evaluate the effectiveness of proposed performance measures and the plan for collecting and reporting on data related to the National RTAP's products activities, and outcomes.

F. Federal Award Administration

1. Federal Award Notices

Final award decisions will be made by the FTA Administrator. In making these decisions, the Administrator will take into consideration:

a. Recommendations of the review panel;

b. past performance of the applicant regarding programmatic and grants management compliance;

c. the reasonableness of the estimated cost to the government considering the available funding and anticipated results; and

d. the likelihood that the proposed project will result in the transportation outcomes expected.

The FTA will notify the successful organization and may announce the selection on its website https://www.transit.dot.gov. Following notification, the successful entity will be required to submit its application through the FTA Transit Award Management System (TrAMS). The FTA will work with the successful applicant to develop a detailed cooperative agreement and may require modifications to the proposal before a cooperative agreement is awarded. The FTA will award and manage a cooperative agreement through TrAMS.

2. Award Administration

(A) Grant Requirements

The successful applicant will apply for a cooperative agreement through TrAMS and adhere to the customary FTA grant requirements of Section 5311(b)(3)(C).

(B) Competitive grants and cooperative agreements greater than $500,000 will go through the Congressional notification and release process. Assistance regarding these requirements is available from FTA.

(C) Standard Assurances

The applicant assures that it will comply with all applicable Federal statutes, regulations, executive orders, FTA circulars, and other Federal administrative requirements in carrying out any project supported by the FTA grant. The applicant acknowledges that it is under a continuing obligation to comply with the terms and conditions of the cooperative agreement issued for its project with the FTA. The applicant understands that Federal laws, regulations, policies, and administrative practices might be modified from time to time and that modifications may affect the implementation of the project. The applicant agrees that the most recent Federal requirements will apply to the project, unless FTA issues a written determination otherwise. The applicant must submit the Certifications and Assurances before receiving a cooperative agreement if it does not have current certifications on file.

3. Reporting

Post-award reporting requirements include submission of Federal Financial Reports and Milestone Progress Reports in TrAMS on a quarterly basis. Documentation is required for payment. Additional reporting may be required specific to the National Rural Transportation Assistance Program and the recipient may be expected to participate in events or peer networks related to rural transit. The Federal Financial Accountability and Transparency Act (FFATA) requires data entry at the FFATA Sub Award Reporting System (http://www.FSRS.gov) for all sub-awards and sub-contracts issued for $25,000 or more, as well as addressing executive compensation for both grantee and sub-award organizations.

Additionally, FTA may evaluate and report on the success of the program. Applicants may be required to provide information for this purpose indicating the need, problem, or opportunity addressed by activities of the program. The national significance and relevance to the public transportation industry must also be clearly demonstrated.

4. Legal Capacity

Applicants must certify that there are no legal issues which would impact their eligibility and authority to apply for FTA funds, or prevent their acceptance of FTA funds.

G. Federal Awarding Agency Contacts

For further information concerning this notice, please contact the Technical Assistance program manager Marianne Stock by phone at 202-366-2677, or by email at marianne.stock@dot.gov. A TDD is available for individuals who are deaf or hard of hearing at 800-877-8339.

Issued in Washington, DC.
K. Jane Williams,
Acting Administrator.

[FR Doc. 2019-16301 Filed 7-30-19; 8:45 am]

BILLING CODE P